GOVERNMENT ACCOUNTABILITY OFFICE

Financial Management and Assurance; Government Auditing Standards

Correction

In notice document 2010-23374 beginning on page 57274 in the issue of Monday, September 20, 2010 make the following corrections:

1. On page 57275, in the first column, under the ADDRESSES section, in the second line, “(GAO-1O-853G)” should read “(GAO-10-853G)”.

2. On the same page, in the same column, under the ADDRESSES section, in the third and fourth lines, “http://www.gao.gov/govaud/vbkO1.htm.” should read “http://www.gao.gov/govaud/ybk01.htm.”.

3. On the same page, in the same column, under the SUPPLEMENTARY INFORMATION section, in the seventh line, “yeJlowbookgao.gov” should read “yellowbook@gao.gov.”

[FR Doc. C1-2010-23374 Filed 10-1-10; 8:45 am]

BILLING CODE 1505-01-D